DEPARTMENT OF ENERGY

Federal Energy Regulatory Commission

Notice of Comment Meeting

June 28, 2006.

Millennium Pipeline L.L.C. (Docket Nos. CP98-150-006, CP98-150-007, and CP98-150-008); Columbia Gas Transmission Corporation (Docket Nos. CP98-151-003, CP98-151-004, and CP05-19-000); Empire State Pipeline and Empire Pipeline, Inc. ( Docket Nos. CP06-5-000, CP06-6-000, and CP06-7-000); Algonquin Gas Transmission System ( Docket No. CP06-76-000); and Iroquois Gas Transmission System (Docket No. CP02-31-002)

On July 18, 2006, the Federal Energy Regulatory Commission staff will conduct comment meeting for the purpose of hearing comments on the draft supplemental environmental impact statement (DSEIS) for the Northeast (NE)-07 Project which was issued on June 15, 2006 and which you should have received. The NE-07 Project would involve the construction and operation of natural gas facilities as proposed and described in the above-referenced dockets in the states of New York, New Jersey, and Connecticut and would include:

• The Millennium Pipeline Project—Phase I proposed by Millennium Pipeline L.L.C. and Columbia Gas Transmission Corporation (Columbia);

• The Line A-5 Replacement Project proposed by Columbia;

• The Empire Connector Project proposed by Empire State Pipeline and Empire Pipeline, Inc.;

• The Ramapo Expansion Project proposed by Algonquin Gas Transmission System; and

• The MarketAccess Project proposed by Iroquois Gas Transmission System.

The SDEIS comment meeting will be on July 18, 2006, and will begin at 6 p.m. and will end no later than 9 p.m. (EST). The meeting will be held at: Brookfield High School Auditorium, 45 Longmeadow Hill Road, Brookfield, Connecticut.

Additional information about the project and the comment meeting is available from the Commission's Office of External Affairs, at 1-866-208-FERC.

Magalie R. Salas,
Secretary.

[FR Doc. E6-10619 Filed 7-6-06; 8:45 am]

BILLING CODE 6717-01-P